DEPARTMENT OF TRANSPORTATION

Federal Aviation Administration

14 CFR Part 39

[Docket No. FAA-2010-0671; Directorate Identifier 2010-NM-142-AD; Amendment 39-16363; AD 2010-14-18]

RIN 2120-AA64

Airworthiness Directives; The Boeing Company Model 767-200, -300, and -300F Series Airplanes Powered by General Electric or Pratt & Whitney Engines

AGENCY: Federal Aviation Administration (FAA), Department of Transportation (DOT).

ACTION: Final rule; request for comments.

SUMMARY: The FAA is superseding an existing airworthiness directive (AD) that applies to certain Model 767-200, -300, and -300F series airplanes. The existing AD currently requires repetitive inspections to detect discrepancies of the 8 aft-most fastener holes in the horizontal tangs of the midspar fitting of the strut, and corrective actions if necessary. The existing AD also requires repetitive inspections for cracks of the closeout angle that covers the 2 aft-most fasteners in the lower tang of the midspar fitting, and related investigative and corrective actions if necessary. The existing AD also provides an optional terminating action for the repetitive inspections. This new AD reduces the compliance times for doing the inspections. This AD results from reports of cracks in the midspar fitting tangs. We are issuing this AD to detect and correct fatigue cracking in the primary strut structure and reduced structural integrity of the strut, which could result in separation of the strut and engine.

DATES: This AD becomes effective August 6, 2010.

The Director of the Federal Register approved the incorporation by reference of a certain publication listed in the AD as of August 6, 2010.

We must receive any comments on this AD by September 7, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Discussion

On September 13, 2005, we issued AD 2005-19-23, amendment 39-14288 (70 FR 55519, September 22, 2005). That AD applies to certain Boeing Model 767-200, -300, and -300F series airplanes. That AD requires repetitive inspections to detect discrepancies of the eight aft-most fastener holes in the horizontal tangs of the midspar fitting of the strut, and corrective actions if necessary. That AD also requires repetitive inspections for cracks of the closeout angle that covers the two aft-most fasteners in the lower tang of the midspar fitting, and related investigative and corrective actions if necessary. That AD also provides an optional terminating action for the repetitive inspections. That AD resulted from a report of a crack in a closeout angle that covers the two aft-most fasteners in the lower tang of the midspar fitting, and the discovery of a crack in the lower tang of the midspar fitting under the cracked closeout angle. The actions specified in that AD are intended to prevent fatigue cracking in the primary strut structure and reduced structural integrity of the strut, which could result in separation of the strut and engine.

Actions Since AD Was Issued

Since we issued that AD, we received two reports of cracks in the midspar fitting tangs. The first report indicated severed upper and lower tangs at the aft two fastener locations in the Number 1 pylon inboard midspar fitting. The cracks were found during a routine check of a Model 767-300 airplane at approximately 92,205 total flight hours and 14,969 total flight cycles. This airplane had incurred 408 flight cycles from the previous inspection. The second report indicated cracks in the Number 1 pylon inboard midspar fitting lower tang, between the aft two fastener holes, on a Model 767-300 airplane at approximately 94,176 total flight hours and 15,405 total flight cycles. This airplane had incurred 830 cycles from the previous inspection.

AD 2005-19-23 specified repetitive inspection intervals between 1,500 flight cycles and 16,000 flight cycles, depending on the inspection type and location. We have determined that the affected airplanes must be inspected within 400 flight cycles since the previous inspection and, for those airplanes that have not yet been inspected, the compliance time threshold of 10,000 total flight cycles specified in AD 2005-19-23 must be reduced to 8,000 total flight cycles. We have also determined that repetitive inspection intervals must be reduced to 400 flight cycles and 6,000 flight cycles, depending on the inspection type.

Relevant Service Information

We have reviewed Boeing Alert Service Bulletin 767-54A0101, Revision 5, dated June 29, 2010. We referred to Boeing Alert Service Bulletin 767-54A0101, Revision 4, dated February 10, 2005, for doing certain actions required by AD 2005-19-23. The procedures in Revision 5 are similar to the procedures in Revision 4. Revision 5 reduces the compliance times for doing the procedures.

We have also reviewed Boeing Alert Service Bulletin 767-54A0062, Revision 6, dated November 5, 2009; and Boeing Alert Service Bulletin 767-54A0074, Revision 1, dated April 24, 2008; which are the latest versions of certain service bulletins referred to in AD 2005-19-23 as additional sources of guidance for doing the terminating action. Boeing Alert Service Bulletin 767-54A0101, Revision 5, dated June 29, 2010, refers to Boeing Alert Service Bulletin 767-54A0062, Revision 6, dated November 5, 2009; and Boeing Alert Service Bulletin 767-54A0074, Revision 1, dated April 24, 2008; as additional sources of guidance for doing the terminating action in Part 4 of the alert service bulletin.

Other Relevant Rulemaking

The FAA has issued the following ADs that are related to the additional sources of guidance specified in this AD.

Table—Other Relevant Rulemaking
AD | Applicability | Related Boeing Service Bulletin | AD requirement
AD 2000-07-05, amendment 39-11659 (65 FR 18883, April 10, 2000) | Certain Boeing Model 767 series airplanes | 767-54A0094 | Repetitive inspections to detect cracking or damage of the forward and aft lugs of the diagonal brace of the nacelle strut; follow-on actions, if necessary; and terminating action for the repetitive inspections.
AD 2004-16-12, amendment 39-13768 (69 FR 51002, August 17, 2004) | Certain Boeing Model 767-200, -300, and -300F series airplanes powered by Pratt & Whitney engines or General Electric engines | 767-54-0069, 767-54-0080, 767-54-0081, and 767-54A0094 | Modification of the nacelle strut and wing structure. (AD 2004-16-12 superseded AD 2001-02-07, Amendment 39-12091 and AD 2001-06-12, Amendment 39-12159.)
AD 2009-20-09, amendment 39-16032 (74 FR 50692, October 1, 2009) | Certain Boeing Model 767-200, -300, and -300F series airplanes | 767-54A0074 | Repetitive inspections for fatigue cracking and corrosion of the upper link fuse pin of the nacelle struts, and related investigative and corrective actions if necessary.
AD 2010-03-08, amendment 39-16192 (75 FR 5677, February 4, 2010) | Certain Boeing Model 767-200, -300, and -300F series airplanes | 767-54A0062, 767-54-0069 | Repetitive detailed and eddy current inspections to detect cracks of certain midspar fuse pins, and corrective action if necessary. (AD 2010-03-08 superseded AD 2003-03-02, Amendment 39-13026.)

FAA's Determination and Requirements of This AD

The unsafe condition described previously is likely to exist or develop on other airplanes of the same type design. For this reason, we are issuing this AD to supersede AD 2005-19-23. This AD requires accomplishing the actions specified in Boeing Alert Service Bulletin 767-54A0101, Revision 5, dated June 29, 2010, described previously, except as discussed under “Differences Between the AD and the Service Bulletin.”

Differences Between the AD and the Service Bulletin

The service bulletin specifies to contact the manufacturer for instructions on how to repair certain conditions, but this AD requires repairing those conditions in one of the following ways:

• In accordance with a method that we approve; or

• Using data that meet the certification basis of the airplane, and that have been approved by the Boeing Commercial Airplanes Organization Designation Authorization (ODA) whom we have authorized to make those findings.

Steps 4.a. and 4.b. of Part 2 of the Work Instructions of Boeing Alert Service Bulletin 767-54A0101, Revision 5, dated June 29, 2010, specify actions if cracking is found and the hole size is either greater than 0.5322 inch or less than 0.5322 inch but not if the hole size equals 0.5322 inch. This AD specifies that if cracking is found and the hole size equals 0.5322 inch, then the terminating action specified in step 4.a. of Part 2 of the Work Instructions of Boeing Alert Service Bulletin 767-54A0101, Revision 5, dated June 29, 2010, must be accomplished.

Interim Action

We consider this AD interim action. We are currently considering additional rulemaking to expand the inspection area.

FAA's Justification and Determination of the Effective Date

Fatigue cracking in the primary strut structure could result in reduced structural integrity of the strut and consequent separation of the strut and engine. Because of our requirement to promote safe flight of civil aircraft and thus, the critical need to ensure the structural integrity of the pylon structure and midspar fittings and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0671; Directorate Identifier 2010-NM-142-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14288 (70 FR 55519, September 22, 2005) and by adding the following new airworthiness directive (AD):

2010-14-18 The Boeing Company: Amendment 39-16363. Docket No. FAA-2010-0671; Directorate Identifier 2010-NM-142-AD.

Effective Date

(a) This AD becomes effective August 6, 2010.

Affected ADs

(b) This AD supersedes AD 2005-19-23, Amendment 39-14288.

Applicability

(c) This AD applies to The Boeing Company Model 767-200, -300, and -300F series airplanes, certificated in any category; as identified in Boeing Alert Service Bulletin 767-54A0101, Revision 5, dated June 29, 2010.

Subject

(d) Air Transport Association (ATA) of America Code 54: Nacelles/Pylons.

Unsafe Condition

(e) This AD results from reports of cracks in the midspar fitting tangs. The Federal Aviation Administration is issuing this AD to detect and correct fatigue cracking in the primary strut structure and reduced structural integrity of the strut, which could result in separation of the strut and engine.

Compliance

(f) You are responsible for having the actions required by this AD performed within the compliance times specified, unless the actions have already been done.

Note 1: Notwithstanding any inspection done in accordance with AD 2005-19-23, inspect within the compliance times specified in this AD.

Initial Inspection

(g) At the applicable time specified in paragraph (h) of this AD: Do the actions specified in either paragraph (g)(1) or (g)(2) of this AD.

(1) Do a detailed inspection for cracking of the 8 aft-most fastener holes in the horizontal tangs of the midspar fitting of the strut, and a surface high frequency eddy current (HFEC) inspection for cracking of the closeout angle that covers the 2 aft-most fasteners in the lower tang of the midspar fitting, in accordance with Part 1, “Detailed Inspection of Midspar Fitting and Surface High Frequency Eddy Current (HFEC) Inspection of Closeout Angle,” of the Work Instructions of Boeing Alert Service Bulletin 767-54A0101, Revision 5, dated June 29, 2010.

(2) Do an open-hole HFEC inspection for cracking of each fastener hole, inspect to determine the size of each fastener hole, and do all applicable related investigative and corrective actions, in accordance with Part 2, “Open Hole HFEC Inspection,” of the Work Instructions of Boeing Alert Service Bulletin 767-54A0101, Revision 5, dated June 29, 2010, except as required by paragraphs (m) and (n) of this AD, and except as provided by paragraph (p) of this AD. Do all applicable related investigative and corrective actions before further flight.

(h) At the applicable time specified in paragraph (h)(1) or (h)(2) of this AD, do the actions specified in paragraph (g) of this AD.

(1) For airplanes on which an inspection (any Part 1 or Part 2 inspection) has not been done in accordance with any service bulletin listed in Table 1 of this AD as of the effective date of this AD: Prior to the accumulation of 8,000 total flight cycles, or within 90 days after the effective date of this AD, whichever occurs later, do the actions specified in paragraph (g) of this AD.

Table 1—Service Bulletins
Service Bulletin | Revision | Date
Boeing Alert Service Bulletin 767-54A0101 | 4 | February 10, 2005.
Boeing Alert Service Bulletin 767-54A0101 | 5 | June 29, 2010.
Boeing Service Bulletin 767-54A0101 | 2 | January 10, 2002.
Boeing Service Bulletin 767-54A0101 | 3 | September 5, 2002.

(2) For airplanes on which any inspection (any Part 1 or Part 2 inspection) has been done in accordance with any service bulletin listed in Table 1 of this AD as of the effective date of this AD: Within 400 flight cycles after doing the most recent inspection or within 90 days after the effective date of this AD, whichever occurs later, do the actions specified in paragraph (g) of this AD.

Repetitive Inspections

(i) If, during any detailed and surface HFEC inspection specified by paragraph (g)(1) of this AD, no cracking is found, do the actions specified in either paragraph (i)(1) or (i)(2) of this AD.

(1) Repeat the inspections specified in paragraph (g)(1) of this AD thereafter at intervals not to exceed 400 flight cycles.

(2) Within 400 flight cycles after doing the most recent inspections specified in paragraph (g)(1) of this AD, do the actions specified in paragraph (g)(2) of this AD and repeat thereafter at intervals not to exceed 6,000 flight cycles.

(j) If, during the actions specified by paragraph (g)(2) of this AD, the terminating action specified in Part 4 of the Work Instructions of Boeing Alert Service Bulletin 767-54A0101, Revision 5, dated June 29, 2010, is not done, do the actions specified in either paragraph (j)(1) or (j)(2) of this AD.

(1) Within 6,000 flight cycles after doing the actions specified in paragraph (g)(2) of this AD, do the inspections specified in paragraph (g)(1) of this AD and repeat the inspections thereafter at intervals not to exceed 400 flight cycles.

(2) Repeat the actions specified in paragraph (g)(2) of this AD thereafter at intervals not to exceed 6,000 flight cycles.

Corrective Actions for Inspections Done per Paragraph (g)(1) of This AD

(k) If, during any inspection specified by paragraph (g)(1) of this AD, any crack is found in the midspar fitting tangs, before further flight, do the actions specified in paragraph (k)(1) or (k)(2) of this AD.

(1) Do the terminating action specified in Part 4 of the Work Instructions of Boeing Alert Service Bulletin 767-54A0101, Revision 5, dated June 29, 2010, except as required by paragraph (m) of this AD. Accomplishment of this paragraph terminates the requirements of this AD.

(2) Replace the midspar fitting of the strut with a new part, or repair in accordance with a method approved by the Manager, Seattle Aircraft Certification Office (ACO), FAA. Within 8,000 flight cycles after doing the replacement, do the actions specified in either paragraph (k)(2)(i) or (k)(2)(ii) of this AD.

(i) Do the inspections specified in paragraph (g)(1) of this AD and repeat the inspections thereafter at intervals not to exceed 400 flight cycles.

(ii) Do the actions specified in paragraph (g)(2) of this AD and repeat the actions thereafter at intervals not to exceed 6,000 flight cycles.

(l) If, during any surface HFEC inspection specified by paragraph (g)(1) of this AD, any crack is found in the closeout angle, before further flight, do the open-hole HFEC inspection for cracking and all applicable related investigative and corrective actions, in accordance with Part 2, “Open Hole HFEC Inspection,” and step 4.b.(2) of Part 1, “Detailed Inspection of Midspar Fitting and Surface High Frequency Eddy Current (HFEC) Inspection of Closeout Angle,” of the Work Instructions of Boeing Alert Service Bulletin 767-54A0101, Revision 5, dated June 29, 2010, except as required by paragraphs (m) and (n) of this AD, and except as provided by paragraph (p) of this AD. If the terminating action specified in Part 4 of the Work Instructions of Boeing Alert Service Bulletin 767-54A0101, Revision 5, dated June 29, 2010, is not done, do the actions specified in either paragraph (l)(1) or (l)(2) of this AD.

(1) Within 6,000 flight cycles after doing the actions specified in paragraph (l) of this AD, do the inspections specified in paragraph (g)(1) of this AD and repeat the inspections thereafter at intervals not to exceed 400 flight cycles.

(2) Within 6,000 flight cycles after doing the actions specified in paragraph (l) of this AD, do the actions specified in paragraph (g)(2) of this AD, and repeat the actions thereafter at intervals not to exceed 6,000 flight cycles.

Service Bulletin Exceptions

(m) Where Boeing Alert Service Bulletin 767-54A0101, Revision 5, dated June 29, 2010, specifies that the manufacturer may be contacted for disposition of repair conditions: Before further flight, accomplish the repair using a method approved in accordance with the procedures specified in paragraph (r) of this AD.

(n) If, during any open-hole HFEC inspection required by paragraph (g)(2) or (l) of this AD, any crack is found in the midspar fitting and the hole size is 0.5322 inch, before further flight, do the terminating action specified in paragraph (k)(1) of this AD.

Optional Terminating Action

(o) Doing the terminating action specified in Part 4 of the Work Instructions of Boeing Alert Service Bulletin 767-54A0101, Revision 5, dated June 29, 2010, terminates the requirements of this AD.

Note 2: Boeing Alert Service Bulletin 767-54A0101, Revision 5, dated June 29, 2010, refers to the Boeing service bulletins in Table 2 of this AD as additional sources of guidance for doing the terminating action in paragraphs (k) and (o) of this AD.

Table 2—Additional Sources of Guidance
Boeing Service Bulletin | Revision level | Date | Title
767-54-0052 | Original | June 11, 1992 | Nacelles/Pylons—Strut—Aft Lower Spar—Fastener Corrosion—Inspection and Replacement.
767-54-0061 | 2 | November 23, 1999 | Nacelles/Pylons—Wing-to-Strut Attach Fittings—Lower Spar Bushing Inspection and Replacement.
767-54-0069 | 2 | August 31, 2000 | Nacelles/Pylons—Midspar Fitting—Underwing Sideload Fitting—Fuse Pin Replacement and Wing Rework.
767-54-0072 | Original | March 13, 1997 | Nacelles/Pylons—Strut Attach Upper Link—Upper Link Inspection, Rework or Replacement.
767-54-0080 | 1 | May 9, 2002 | Nacelles/Pylons—Pratt and Whitney Powered Airplanes—Nacelle Strut and Wing Structure Modification.
767-54-0081 | 1 | February 7, 2002 | Nacelles/Pylons—General Electric Powered Airplanes—Nacelle Strut and Wing Structure Modification.
767-54A0062 | 6 | November 5, 2009 | Nacelles/Pylons—Strut Attach Fuse Pins—Midspar Fuse Pin Inspection and Replacement.
767-54A0074 | 1 | April 24, 2008 | Nacelles/Pylons—Strut Attach Fuse Pins—Upper link Fuse Pin Inspection/Replacement.
767-54A0094 | 2 | February 7, 2002 | Nacelles/Pylons—Strut—to—Wing Attachment—Diagonal Brace Inspection/Rework/Replacement.
767-57-0063 | 1 | November 30, 2000 | Wings—Side Load Underwing Fitting —Inspection/Rework.

Note 3: Certain service bulletins referenced in Table 2 of this AD are related to the ADs listed in Table 3 of this AD.

Table 3—Other Relevant Rulemaking
AD | Applicability | Related Boeing Service Bulletin | AD requirement
AD 2000-07-05, amendment 39-11659 | Certain Boeing Model 767 series airplanes | 767-54A0094 | Repetitive inspections to detect cracking or damage of the forward and aft lugs of the diagonal brace of the nacelle strut; follow-on actions, if necessary; and terminating action for the repetitive inspections.
AD 2004-16-12, amendment 39-13768 | Certain Boeing Model 767-200, -300, and -300F series airplanes powered by Pratt & Whitney engines or General Electric engines | 767-54-0069, 767-54-0080, 767-54-0081, and 767-54A0094 | Modification of the nacelle strut and wing structure.
AD 2009-20-09, amendment 39-16032 | Certain Boeing Model 767-200, -300, and -300F series airplanes | 767-54A0074 | Repetitive inspections for fatigue cracking and corrosion of the upper link fuse pin of the nacelle struts, and related investigative and corrective actions if necessary.
AD 2010-03-08, amendment 39-16192 | Certain Boeing Model 767-200, -300, and -300F series airplanes | 767-54A0062, 767-54-0069 | Repetitive detailed and eddy current inspections to detect cracks of certain midspar fuse pins, and corrective action if necessary.

Optional Corrective Action for Paragraph (g)(2) or (l) of This AD

(p) In lieu of doing the related investigative and corrective actions required by paragraph (g)(2) or (l) of this AD, before further flight, replace the midspar fitting of the strut with a new part, or repair in accordance with a method approved by the Manager, Seattle Aircraft Certification Office (ACO), FAA. Within 8,000 flight cycles after doing any replacement, do the actions specified in either paragraph (p)(1) or (p)(2) of this AD.

(1) Do the inspections specified in paragraph (g)(1) of this AD and repeat the inspections thereafter at intervals not to exceed 400 flight cycles.

(2) Do the actions specified in paragraph (g)(2) of this AD and repeat the actions thereafter at intervals not to exceed 6,000 flight cycles.

Terminating Action Accomplished per Previous Issues of Service Bulletin

(q) Doing the terminating action specified in Part 4 of the Work Instructions of any service bulletin listed in Table 4 of this AD before the effective date of this AD is acceptable for compliance with the requirements of this AD.

Table 4—Credit Service Bulletins for Terminating Action
Service Bulletin | Revision | Date
Boeing Alert Service Bulletin 767-54A0101 | Original | September 23, 1999.
Boeing Alert Service Bulletin 767-54A0101 | 4 | February 10, 2005.
Boeing Service Bulletin 767-54A0101 | 1 | February 3, 2000.
Boeing Service Bulletin 767-54A0101 | 2 | January 10, 2002.
Boeing Service Bulletin 767-54A0101 | 3 | September 5, 2002.

Alternative Methods of Compliance (AMOCs)

(r)(1) The Manager, Seattle Aircraft Certification Office, FAA, has the authority to approve AMOCs for this AD, if requested using the procedures found in 14 CFR 39.19. Send information to Attn: Berhane Alazar, Aerospace Engineer, Airframe Branch, ANM-120S, FAA, Seattle Aircraft Certification Office (ACO), 1601 Lind Avenue, SW., Renton, Washington 98057-3356; telephone (425) 917-6577; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

Material Incorporated by Reference

(s) You must use Boeing Alert Service Bulletin 767-54A0101, Revision 5, dated June 29, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 9, 2010.
Ali Bahrami,
Manager, Transport Airplane Directorate, Aircraft Certification Service.

[FR Doc. 2010-17611 Filed 7-21-10; 8:45 am]

BILLING CODE 4910-13-P